DEPARTMENT OF JUSTICE

Notice of Lodging of Consent Decree Under the Resource Conservation and Recovery Act

Notice is hereby given that on December 1, 2011, a proposed consent decree in United States v. E.I. DuPont de Nemours and Company (“DuPont”), Civil Action No. 1:11-7003, was lodged with the United States District Court for the District of New Jersey.

In this action the United States sought civil penalties and injunctive relief to address alleged violations of the Resource Conservation and Recovery Act (“RCRA”), 42 U.S.C. 6901-92k, at DuPont's Secure Environmental Treatment Facility in Deepwater, New Jersey. The complaint alleges that DuPont returned hazardous waste to a facility not permitted to receive it, that DuPont failed to comply with an information request from the U.S. Environmental Protection Agency, and that DuPont stored railcars containing hazardous waste without a permit and without secondary containment measures. The consent decree requires DuPont to pay a civil penalty of $250,000 and, among other things, to store railcars containing hazardous waste accepted at the facility after March 30, 2012 only in accordance with the requirements of the RCRA, and to empty all railcars containing hazardous waste that were accepted prior to March 30, 2012 by June 1, 2012.

The Department of Justice will receive for a period of thirty (30) days from the date of this publication comments relating to the consent decree. Comments should be addressed to the Assistant Attorney General, Environment and Natural Resources Division, and either emailed to pubcomment-ees.enrd@usdoj.gov or mailed to P.O. Box 7611, U.S. Department of Justice, Washington, DC 20044-7611, and should refer to United States v. DuPont, D.J. Ref. 90-5-1-1-09300/1.

The consent decree may be examined on the following Department of Justice Web site, http://www.usdoj.gov/enrd/Consent_Decrees.html. A copy of the consent decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury or, if by email or fax, forward a check in that amount to the Consent Decree Library at the stated address.

Maureen Katz,
Assistant Chief, Environmental Enforcement Section, Environment and Natural Resources Division.

[FR Doc. 2011-31448 Filed 12-7-11; 8:45 am]

BILLING CODE 4410-15-P